OVERSEAS PRIVATE INVESTMENT CORPORATION

June 13, 2000 Board of Directors Sunshine Act Meeting

TIME AND DATE: Tuesday, June 13, 2000, 1:00 pm (Open Portion) 1:30 pm (Closed Portion).

PLACE: Offices of the Corporation, Twelfth Floor Board Room, 1100 New York Avenue, N.W., Washington, D.C.

STATUS: Meeting open to the Public from 1:00 pm to 1:30 pm. Closed portion will commence at 1:30 pm (approx.).

MATTERS TO BE CONSIDERED:

1. President's Report.

2. Appointment—Joan Logue-Kinder.

3. Approval of March 21, 2000 Minutes (Open Portion).

FURTHER MATTERS TO BE CONSIDERED: (Closed to the Public 1:30 pm).

1. Finance Project in Southeast Europe.

2. Insurance Project in Bulgaria.

3. Finance Project in Equatorial Guinea.

4. Finance Project in Turkey.

5. Insurance Project in Brazil.

6. Approval of March 21, 2000 Minutes (Closed Portion).

7. Pending Major Projects.

8. Reports.

CONTACT PERSON FOR INFORMATION: Information on the meeting may be obtained from Connie M. Downs at (202) 336-8438.

Dated: May 31, 2000.
Connie M. Downs,
OPIC Corporate Secretary.

[FR Doc. 00-14093 Filed 6-1-00; 10:33 am]

BILLING CODE 3210-01-M